DEPARTMENT OF LABOR

Employment and Training Administration

[TA-W-73,156]

American Spring Wire Corporation, Kankakee, IL; Notice of Revised Determination on Reconsideration

On October 7, 2010, the Department issued a Notice of Affirmative Determination Regarding Application for Reconsideration for the workers and former workers of American Spring Wire Corporation, Kankakee, Illinois (subject firm) to apply for Trade Adjustment Assistance (TAA). The Department's Notice was published in the Federal Register on October 25, 2010 (75 FR 65516). The subject workers are engaged in employment related to the production of spring wire. The worker group does not include leased workers.

New information obtained during the reconsideration investigation revealed that workers and former workers of American Spring Wire Corporation, Kankakee, Illinois meet the criteria as Suppliers for secondary worker certification.

Criterion I has been met because a significant number or proportion of workers in the workers' firm were totally or partially separated, or were threatened with separation.

Criterion II has been met because workers of subject firm produced and sold spring wire for a firm that employed a worker group eligible to apply for TAA and the spring wire was related to the article that was the basis for the TAA certification.

Criterion III has been met because the loss of business by subject firm with the aforementioned firm, with respect to spring wire, contributed importantly to worker separations, or threat of separations, at the Kankakee, Illinois facility.

Conclusion

After careful review of the additional facts obtained on reconsideration, I determine that workers and former workers of subject firm, who are engaged in employment related to the supply of spring wire, meet the worker group certification criteria under Section 222(c) of the Act, 19 U.S.C. 2272(c). In accordance with Section 223 of the Act, 19 U.S.C. 2273, I make the following certification:

All workers of American Spring Wire Corporation, Kankakee, Illinois, who became totally or partially separated from employment on or after December 17, 2008, through two years from the date of this revised certification, and all workers in the group threatened with total or partial separation from employment on date of certification through two years from the date of certification, are eligible to apply for adjustment assistance under Chapter 2 of Title II of the Trade Act of 1974, as amended.

Signed in Washington, DC, this 6th day of April, 2011.
Del Min Amy Chen,
Certifying Officer, Office of Trade Adjustment Assistance.

[FR Doc. 2011-8978 Filed 4-13-11; 8:45 am]

BILLING CODE 4510-FN-P